DEPARTMENT OF COMMERCE

International Trade Administration

[A-549-813]

Canned Pineapple Fruit From Thailand: Notice of Extension of Time Limit of Final Results of Antidumping Duty Administrative Review

AGENCY: Import Administration, International Trade Administration, Department of Commerce.

EFFECTIVE DATE: October 31, 2003.

FOR FURTHER INFORMATION CONTACT: Marin Weaver at (202) 482-2336 or Charles Riggle at (202) 482-0650, Office of AD/CVD Enforcement 5, Import Administration, International Trade Administration, U.S. Department of Commerce, 14th Street and Constitution Avenue, NW., Washington, DC 20230.

Statutory Time Limits

Section 751(a)(3)(A) of the Tariff Act of 1930, as amended (the Act), and section 351.213(h)(2) of the Department's regulations require the Department to complete the preliminary results within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested and for the final results to 180 days (or 300 days if the Department does not extend the time limit for the preliminary results) from the date of publication of the preliminary results.

Background

On August 27, 2002, the Department of Commerce (the Department) published a notice of initiation of administrative review of the antidumping duty order on canned pineapple fruit from Thailand, covering the period July 1, 2001, through June 30, 2002 (67 FR 55000). On September 25, 2002, the Department published a correction to the initiation (67 FR 60210). On March 27, 2003 the Department partially extended the preliminary results (68 FR 14941). On June 6, 2003, the Department further extended the preliminary results (68 FR 33910). On June 27, 2003, the Department published the preliminary results for this review. See Notice of Preliminary Results, Partial Rescission of Antidumping Duty Administrative Review, and Preliminary Determination To Not Revoke Order in Part: Canned Pineapple Fruit From Thailand, 68 FR 38291 (June 27, 2003). In our notice of preliminary results, we stated our intention to issue the final results of this review no later than 120 days after publication of the preliminary results. The final results are currently due on October 27, 2003.

Extension of Time Limit for Final Results of Review

We determine that it is not practicable to complete the final results of this review within the original time limit for the reasons stated in our memorandum from Gary Taverman, Director, Office 5, to Holly Kuga, Acting Deputy Assistant Secretary for AD/CVD Enforcement II, which is on file in the Central Records Unit, Room B-099 of the main Commerce building. Therefore, the Department is extending the time limit for completion of the final results until no later than November 10, 2003.

This extension is in accordance with section 751(a)(3)(A) of the Act.

Dated: October 27, 2003.
Holly Kuga,
Acting Deputy Assistant Secretary for AD/CVD Enforcement II.

[FR Doc. 03-27494 Filed 10-30-03; 8:45 am]

BILLING CODE 3570-DS-P